DEPARTMENT OF HOMELAND SECURITY

Federal Emergency Management Agency

44 CFR Part 67

[Docket ID FEMA-2010-0003; Internal Agency Docket No. FEMA-B-1101]

Proposed Flood Elevation Determinations

Correction

In proposed rule document 2011-19545 appearing on pages 46715-46716 in the issue of August 3, 2011, make the following correction:

In the proposed rule document 2011-19545, the table appearing on pages 46715-46716 was printed incorrectly. It was corrected and appears below:

Flooding source(s) | Location of referenced elevation * * | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Anne Arundel County, Maryland, and Incorporated Areas
Cabin Branch | Approximately 122 feet downstream of Chessie System | + 8 | + 7 | Unincorporated Areas of Anne Arundel County.
| Approximately 325 feet upstream of Andover Road | + 115 | + 118
Franklin Branch | At the Midway Branch confluence | None | + 127 | Unincorporated Areas of Anne Arundel County.
| Approximately 780 feet upstream of Clark Road. | None | + 214
Hall Creek | At the most downstream Calvert County boundary | + 43 | + 40 | Unincorporated Areas of Anne Arundel County.
| At the most upstream Calvert County boundary | + 54 | + 52
Little Patuxent River | Approximately 600 feet upstream of the Patuxent River confluence | + 43 | + 46 | Unincorporated Areas of Anne Arundel County.
| Approximately 1,456 feet upstream of Brock Bridge Road | + 130 | + 132
Marley Creek | Approximately 485 feet upstream of Arundel Expressway | + 8 | + 7 | Unincorporated Areas of Anne Arundel County.
| Approximately 165 feet upstream of Elevation Road | + 28 | + 26
Midway Branch | At the Little Patuxent River confluence | + 76 | + 85 | Unincorporated Areas of Anne Arundel County.
| Approximately 0.58 mile upstream of Clark Road | None | + 211
Patapsco River | Approximately 0.77 mile downstream of the Harbor Tunnel Thruway | + 9 | + 12 | Unincorporated Areas of Anne Arundel County.
| Approximately 200 feet upstream of I-195 | + 25 | + 26
Patuxent River | Approximately 0.56 mile downstream of Southern Maryland Boulevard | + 9 | + 8 | Unincorporated Areas of Anne Arundel County.
| Approximately 0.57 mile upstream of Laurel Fort Meade Road | + 139 | + 140
Sawmill Creek | At the upstream side of Crain Highway | + 8 | + 10 | Unincorporated Areas of Anne Arundel County.
| Approximately 400 feet upstream of Washington Baltimore and Annapolis Road | None | + 105
Severn Run | Approximately 0.43 mile downstream of Veterans Highway | + 6 | + 7 | Unincorporated Areas of Anne Arundel County.
| Approximately 0.5 mile upstream of Telegraph Road | + 97 | + 98
* National Geodetic Vertical Datum.
# Depth in feet above ground.
+ North American Vertical Datum.
‸ Mean Sea Level, rounded to the nearest 0.1 meter.
* * BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Mitigation Directorate, Federal Emergency Management Agency, 500 C Street, SW., Washington, DC 20472.
ADDRESSES
Unincorporated Areas of Anne Arundel County
Maps are available for inspection at the Anne Arundel County Permit Application Center, 2664 Riva Road, Annapolis, MD 21401.

[FR Doc. C1-2011-19545 Filed 10-6-11; 8:45 am]

BILLING CODE 1505-01-D